DEPARTMENT OF HEALTH AND HUMAN SERVICES

Health Resources and Services Administration

Advisory Council on Blood Stem Cell Transplantation; Notice of Meeting

In accordance with section 10(a)(2) of the Federal Advisory Committee Act (Pub. L. 92-463), notice is hereby given of the following meeting:

Name: Advisory Council on Blood Stem Cell Transplantation.

Date and Times: May 11, 2011, 8 a.m. to 4:30 p.m.

Place: Georgetown University Hotel and Conference Center, 3800 Reservoir Road, NW., Washington, DC 20057.

Status: The meeting will be open to the public.

Purpose: Pursuant to Public Law 109-129, 42 U.S.C. 274k (section 379 of the Public Health Service Act, as amended), the Advisory Council on Blood Stem Cell Transplantation (ACBSCT) advises the Secretary of HHS and the Administrator, HRSA, on matters related to the activities of the C.W. Bill Young Cell Transplantation Program (Program) and the National Cord Blood Inventory (NCBI) Program.

Agenda: The Council will hear reports from five ACBSCT Work Groups: Cord Blood Bank Collections, Realizing the Potential of Cord Blood, Scientific Factors Necessary to Define a Cord Blood Unit as High Quality, Cord Blood Thawing and Washing, and Access to Transplantation. The Council also will hear presentations and discussions on the following topics: Current State of Knowledge-Cord Blood Transplantation; National Marrow Donor Program (NMDP) Analysis of National Cord Blood Inventory (NCBI) and Non-NCBI Cord Blood Units; Adverse Event Reporting; Cord Blood Studies at the National Institutes of Health; and Report on NMDP Cord Blood Financial Summit. Agenda items are subject to change as priorities indicate.

After the presentations and Council discussions, members of the public will have an opportunity to provide comments. Because of the Council's full agenda and the timeframe in which to cover the agenda topics, public comment will be limited. All public comments will be included in the record of the ACBSCT meeting. Meeting summary notes will be made available on the HRSA's Program Web site at http://bloodcell.transplant.hrsa.gov/ABOUT/Advisory_Council/index.html.

Those planning to attend are requested to register in advance and those wishing to make oral comments should so indicate. The draft meeting agenda and a registration form are available on the HRSA's Program Web site at http://bloodcell.transplant.hrsa.gov/ABOUT/Advisory_Council/index.html.

Registration also can be completed electronically at http://www.acbsct.com or submitted by facsimile to Lux Consulting Group, Inc., the logistical support contractor for the meeting, at fax number (301) 585-7741 ATTN: Deborah Jones. Individuals without access to the Internet who wish to register may call Deborah Jones at (301) 585-1261.

FOR FURTHER INFORMATION CONTACT: Patricia Stroup, Executive Secretary, Healthcare Systems Bureau, Health Resources and Services Administration, 5600 Fishers Lane, Room 12C-06, Rockville, Maryland 20857; telephone (301) 443-1127.

Dated: March 29, 2011.
Reva Harris,
Acting Director, Division of Policy and Information Coordination.

[FR Doc. 2011-8146 Filed 4-5-11; 8:45 am]

BILLING CODE 4165-15-P